OFFICE OF THE UNITED STATES TRADE REPRESENTATIVE

[Dispute No. WTO/DS471]

WTO Dispute Settlement Proceeding Regarding Certain Methodologies and Their Application to Anti-Dumping Proceedings Involving China

AGENCY: Office of the United States Trade Representative.

ACTION: Notice; request for comments.

SUMMARY: The Office of the United States Trade Representative (“USTR”) is providing notice that on December 3, 2013, the People's Republic of China (“China”) requested consultations with the United States under the Marrakesh Agreement Establishing the World Trade Organization (“WTO Agreement”) concerning antidumping measures on the following products from China: certain coated paper suitable for high-quality print graphics using sheet-fed presses, certain oil country tubular goods, high pressure steel cylinders, polyethylene terephthalate film, sheet, and strip, aluminum extrusions, certain frozen and canned warmwater shrimp,¹ certain new pneumatic off-the-road tires, crystalline silicon photovoltaic cells, whether or not assembled into modules, diamond sawblades and parts thereof, multilayered wood flooring, narrow woven ribbons with woven selvedge, polyethylene retail carrier bags, and wooden bedroom furniture.

¹ Although China describes this measure as relating to “frozen and canned warmwater shrimp,” the relevant antidumping duty order does not cover canned warmwater shrimp, following the International Trade Commission's negative material injury determination with respect to canned warmwater shrimp. See Amended Final Determination of Sales at Less Than Fair Value and Antidumping Duty Order: Certain Frozen Warmwater Shrimp From the People's Republic of China, 70 FR 5149, 5150 (Feb. 1, 2005).

That request may be found at www.wto.org in a document designated as WT/DS471/1. USTR invites written comments from the public concerning the issues raised in this dispute.

DATES: Although USTR will accept any comments received during the course of the dispute settlement proceedings, comments should be submitted on or before February 14, 2014, to be assured of timely consideration by USTR.

ADDRESSES: Public comments should be submitted electronically to www.regulations.gov, docket number USTR-2014-0001. If you are unable to provide submissions by www.regulations.gov, please contact Sandy McKinzy at (202) 395-9483 to arrange for an alternative method of transmission.

If (as explained below) the comment contains confidential information, then the comment should be submitted by fax only to Sandy McKinzy at (202) 395-3640.

FOR FURTHER INFORMATION CONTACT: J. Daniel Stirk, Associate General Counsel, or Mayur Patel, Assistant General Counsel, Office of the United States Trade Representative, 600 17th Street NW., Washington, DC 20508, (202) 395-3150.

SUPPLEMENTARY INFORMATION: USTR is providing notice that consultations have been requested pursuant to the WTO Understanding on Rules and Procedures Governing the Settlement of Disputes (“DSU”). If such consultations should fail to resolve the matter and a dispute settlement panel is established pursuant to the DSU, the panel would hold its meetings in Geneva, Switzerland.

Major Issues Raised by China

On December 3, 2013, China requested consultations concerning antidumping measures on a number of products from China, including certain coated paper suitable for high-quality print graphics using sheet-fed presses (coated paper), certain oil country tubular goods (OCTG), high pressure steel cylinders (steel cylinders), polyethylene terephthalate film, sheet, and strip (PET film), aluminum extrusions, certain frozen and canned warmwater shrimp (shrimp), certain new pneumatic off-the-road tires (tires), crystalline silicon photovoltaic cells, whether or not assembled into modules (solar cells), diamond sawblades and parts thereof (sawblades), multilayered wood flooring (flooring), narrow woven ribbons with woven selvedge (ribbons), polyethylene retail carrier bags (bags), and wooden bedroom furniture (furniture).

With respect to the antidumping measures on coated paper, OCTG, and steel cylinders, China challenges the application by the Department of Commerce (“Commerce”) in investigations of what China describes as a “targeted dumping methodology” and the use of “zeroing” in connection with the application of such methodology. China's challenge includes Commerce's final determinations in the antidumping investigations of these products, any modification, replacement, or amendment of such final determinations, and “any closely connected, subsequent measures” that involve the “targeted dumping methodology.”

With respect to the antidumping measure on PET film, China challenges Commerce's application in an administrative review of what China describes as a “targeted dumping methodology” and the use of “zeroing” in connection with the application of such methodology. China's challenge includes Commerce's final determination in the antidumping duty administrative review of PET film, any modification, replacement, or amendment of such final determination, and “any closely connected, subsequent measures” that involve the “targeted dumping methodology.”

With respect to the antidumping measures on aluminum extrusions, coated paper, shrimp, tires, OCTG, solar cells, sawblades, steel cylinders, wood flooring, ribbons, bags, PET film, and furniture, China challenges Commerce's application in investigations and administrative reviews of what China describes as a “single rate presumption for non-market economies.” China's challenge includes Commerce's final determinations, any modification, replacement, or amendment of such final determinations, and “any closely connected, subsequent measures” that involve the application of the “single rate presumption.” China also challenges the “single rate presumption” “as such,” and alleges that it has been consistently applied pursuant to the regulation set forth in 19 CFR 351.107(d), Import Administration Policy Bulletin Number 05.1 of 5 April 2005, and the Import Administration Antidumping Manual, 2009, Chapter 10.

With respect to the antidumping measures on aluminum extrusions, coated paper, shrimp, tires, OCTG, solar cells, sawblades, steel cylinders, wood flooring, ribbons, bags, PET film, and furniture, China challenges Commerce's application in investigations and administrative reviews of what China describes as a “NME-wide methodology,” which includes as “features” the “failure to request information,” the “failure to provide rights of defense,” and the “recourse to facts available.” China's challenge includes Commerce's final determinations, any modification, replacement, or amendment of such final determinations, and “any closely connected, subsequent measures” that involve the application of the “NME-wide methodology.”

Finally, with respect to the antidumping measures on aluminum extrusions, coated paper, shrimp, tires, OCTG, solar cells, sawblades, steel cylinders, wood flooring, ribbons, bags, PET film, and furniture, China challenges Commerce's application in investigations and administrative reviews of what China describes as “adverse facts available.” China's challenge includes Commerce's final determinations, any modification, replacement, or amendment of such final determinations, and “any closely connected, subsequent measures” that involve the application of the “NME-wide methodology.” China also challenges the use of “adverse facts available” “as such,” and alleges that it has been consistently applied pursuant to section 776(b) of the Tariff Act of 1930, codified at 19 U.S.C. 1677e(b) and regulations set forth in 19 CFR 351.308.

China alleges inconsistencies with Articles 2.4.2, 6.1, 6.8, 6.10, 9.2, 9.3, 9.4, and Annex II of the AD Agreement and Article VI:2 of the General Agreement on Tariffs and Trade 1994.

Public Comment: Requirements for Submissions

Interested persons are invited to submit written comments concerning the issues raised in this dispute. Persons may submit public comments electronically to www.regulations.gov docket number USTR-2014-0001. If you are unable to provide submissions by www.regulations.gov, please contact Sandy McKinzy at (202) 395-9483 to arrange for an alternative method of transmission.

To submit comments via www.regulations.gov, enter docket number USTR-2014-0001 on the home page and click “search”. The site will provide a search-results page listing all documents associated with this docket. Find a reference to this notice by selecting “Notice” under “Document Type” on the left side of the search-results page, and click on the link entitled “Submit a Comment.” (For further information on using the www.regulations.gov Web site, please consult the resources provided on the Web site by clicking on “How to Use This Site” on the left side of the home page.)

The www.regulations.gov Web site allows users to provide comments by filling in a “Type Comments” field, or by attaching a document using an “Upload File” field. It is expected that most comments will be provided in an attached document. If a document is attached, it is sufficient to type “See attached” in the “Type Comments” field.

A person requesting that information contained in a comment that he/she submitted be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to www.regulations.gov. The non-confidential summary will be placed in the docket and will be open to public inspection.

USTR may determine that information or advice contained in a comment submitted, other than business confidential information, is confidential in accordance with Section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to www.regulations.gov. The non-confidential summary will be placed in the docket and will be open to public inspection.

Pursuant to section 127(e) of the Uruguay Round Agreements Act (19 U.S.C. 3537(e)), USTR will maintain a docket on this dispute settlement proceeding, docket number USTR-2014-0001, accessible to the public at www.regulations.gov. The public file will include non-confidential comments received by USTR from the public regarding the dispute. If a dispute settlement panel is convened, or in the event of an appeal from such a panel, the following documents will be made available to the public at www.ustr.gov: the United States' submissions, any non-confidential submissions received from other participants in the dispute, and any non-confidential summaries of submissions received from other participants in the dispute.

In the event that a dispute settlement panel is convened, or in the event of an appeal from such a panel, the report of the panel, and, if applicable, the report of the Appellate Body, will also be available on the Web site of the World Trade Organization, at www.wto.org. Comments open to public inspection may be viewed at www.regulations.gov.

Juan Millan,
Assistant United States Trade Representative for Monitoring and Enforcement.

[FR Doc. 2014-01350 Filed 1-23-14; 8:45 am]

BILLING CODE 3290-F4-P